DEPARTMENT OF COMMERCE

National Oceanic and Atmospheric Administration

[Docket No. 030530139-3139-01; I.D. 010401B]

Marine Protected Areas and an Inventory of Existing Marine Managed Areas

AGENCY: National Oceanic and Atmospheric Administration (NOAA), Department of Commerce (DOC).

ACTION: Solicitation of public comments on proposed criteria for building an Inventory of Marine Managed Areas.

SUMMARY: NOAA and the Office of the Secretary, Department of the Interior (DOI), jointly propose criteria, definitions, and data fields that will be used in development of an Inventory of U.S. Marine Managed Areas or MMAs. The MMA Inventory will provide information that will lead to the fulfillment of requirements of Executive Order (E.O.) 13158 on Marine Protected Areas (MPAs). This action requests comments on the working criteria for including existing sites in the MMA Inventory, and describes data fields to provide consistent information about each site. This notice also makes clear that the development of the MMA Inventory is Phase I, to be followed by the development of the List of MPAs (Phase II) called for in E.O. 13158. The intent of this document is to solicit public participation in the development of an inventory of existing U.S. MMAs (Federal, state, commonwealth, territorial, and tribal sites) as a resource for managers, scientists, and the general public.

DATES: Comments must be received on or before September 22, 2003.

ADDRESSES: Comments regarding the proposed MMA Inventory criteria, definitions, and data fields should be sent to Joseph Uravitch, National MPA Center, N/ORM, NOAA, 1305 East-West Highway, Silver Spring, Maryland 20910. Comments also will be accepted if submitted via e-mail to mpa.comments@noaa.gov. E-mail comments should state “MMA Inventory Comments” on the subject line.

FOR FURTHER INFORMATION CONTACT: Joseph Uravitch, NOAA, 301-713-3155, x195, or Piet deWitt, DOI, 202-208-6224.

SUPPLEMENTARY INFORMATION:

Electronic Access

This Federal Register document also is accessible via the Internet at the Office of the Federal Register's web site at http://www.access.gpo.gov/su_docs/aces/aces140.html.

Background

E.O. 13158 directs DOC and DOI, in consultation with the Department of Defense, the Department of State, the United States Agency for International Development, the Department of Transportation, the Environmental Protection Agency, the National Science Foundation, and other pertinent Federal agencies, to work with non-Federal partners to protect significant natural and cultural resources within the marine environment of the United States, including the Great Lakes, by strengthening and expanding a scientifically-based comprehensive national system of MPAs. A key purpose of E.O. 13158 is to “enhance the conservation of our Nation's natural and cultural marine heritage and the ecologically and economically sustainable use of the marine environment for future generations.” A first step in developing this scientifically-based national system of MPAs is the development of an inventory of MMAs. This inventory will become the initial pool of sites from which the List of MPAs called for in section 4(d) of E.O. 13158 will be developed.

DOC and DOI were given specific roles by E.O. 13158. DOC has delegated lead responsibility to the Under Secretary of Commerce for Oceans and Atmosphere. DOI has delegated its lead to the Assistant Secretary, Lands and Minerals Management. NOAA and DOI have stewardship responsibilities for marine resources under various Federal laws, including the Magnuson-Stevens Fishery Conservation and Management Act, the Endangered Species Act, the Marine Mammal Protection Act, the Coastal Zone Management Act, the National Marine Sanctuaries Act, the Antiquities Act, the National Wildlife Refuge System Administration Act, the Outer Continental Shelf Lands Act, and the National Park Service Organic Act. These and other authorities direct DOC and DOI agencies to manage marine areas for a wide variety of objectives. Area-based management has been used for years to protect marine habitats and submerged cultural resources, rebuild and sustain fisheries, provide recreational opportunities, promote marine research, recover endangered species, and support local economies that depend on ocean resources. These areas have been managed in different ways ranging from restricting specific activities and allowing sustainable use of natural resources within an area, to the establishment of marine reserves that limit access and close the site to all uses except research.

The MMA Inventory will be used in Phase I to inform Federal, state, commonwealth, territorial, local, and tribal agencies of the locations and characteristics of existing MMAs and to form a pool from which sites may later be considered for placement on the List of MPAs (Phase II). Resource managers and others can use this information to better manage these areas and determine the effectiveness of individual sites, as well as regional and national assemblages. The core purposes of the MMA Inventory are:

Providing centralized, easily accessed information and maps on existing Federal, state, commonwealth, territorial, local, and tribal MMAs in the United States;

• Providing information and tools for environmental assessments and effectiveness monitoring (supporting independent analyses and studies of a wide variety of marine issues by governmental and non-governmental users);

• Providing important site-specific information for developing and maintaining the official nationwide List of MPAs required by section 4(d) of E.O. 13158; and

• Providing information to fulfill other requirements of E.O. 13158.

NOAA and DOI have placed a variety of protective or restrictive measures on different marine areas to achieve different management purposes. The definitions and working criteria proposed in this notice are being used to build the MMA Inventory and may, at some future date, be used in determining which sites should be placed on the List of MPAs (Phase II). However, these definitions and criteria are not final and are subject to change based on public comment and through experience gained by using the MMA Inventory and implementing E.O. 13158. The public will be informed of changes to the criteria through the Federal Register and the MPA web site, http://www.mpa.gov.

It is important to distinguish between the MMA Inventory and the List of MPAs. The MMA Inventory is not designed to fulfill the requirement of E.O. 13158 for a List of MPAs but is the first step toward development of that List. The List is to be established at some future date after an administrative process for listing has been established.

After public comment on this notice, NOAA and DOI will decide if the working criteria for building the MMA Inventory should be broadened, narrowed, or otherwise modified. A notice of agency decision will be published in the Federal Register and the MPA web site, http://www.mpa.gov, will be modified appropriately.

Proposal

E.O. 13158 defines a “marine protected area” as “any area of the marine environment that has been reserved by Federal, State, territorial, tribal, or local laws or regulations to provide lasting protection for part or all of the natural and cultural resources therein.” The E.O. defines “marine environment” to mean “those areas of coastal and ocean waters, the Great Lakes and their connecting waters, and submerged lands thereunder, over which the United States exercises jurisdiction, consistent with international law.” The E.O. does not define other key terms in the MPA definition such as “lasting,” “protection,” and “cultural resources.” Given the breadth of these terms and the wide array of sites they could include, NOAA and DOI are clarifying key terms within the E.O.'s MPA definition that will serve as criteria for determining MMAs.

Therefore, NOAA and DOI jointly propose the following definitions for: “area,” “marine,” “reserved,” “lasting,” “protection,” and “cultural.” These definitions serve as criteria and include a description of the characteristics necessary for inclusion in the MMA Inventory and a description of features that would exclude a site from the MMA Inventory.

Area

To be included in the MMA Inventory, the site:

Must have legally defined geographical boundaries, and may be of any size, except that the site must be a subset of the U.S. Federal, state, commonwealth, territorial, local or tribal marine environment in which it is located. Application of this criterion would exclude, for example: Generic broad-based resource management authorities without specific locations. Areas whose boundaries change over time based on species presence.

Marine

To be included in the MMA Inventory, the site:

Must be: (a) ocean or coastal waters (note: coastal waters may include intertidal areas, bays or estuaries); (b) an area of the Great Lakes or their connecting waters; (c) an area of lands under ocean or coastal waters or the Great Lakes or their connecting waters; or (d) a combination of the above. The term “intertidal” is understood to mean the shore zone between the mean low water and mean high water marks. An MMA may be part of a larger site that includes uplands, however, the terrestrial portion is not considered an MMA. For mapping purposes, an MMA may show an associated terrestrial protected area.

NOAA and DOI propose to use the following definition for the term “estuary”: “Part of a river or stream or other body of water having unimpaired connection with the open sea, where the sea water is measurably diluted with fresh water derived from land drainage, and extending upstream to where ocean-derived salts measure less than 0.5 parts per thousand during the period of average annual low flow.” Application of this criterion would exclude, for example, strictly freshwater sites outside the Great Lakes region that contain marine species at certain seasons or life history stages unless that site is a component of a larger, multi-unit MMA. Estuarine-like sites on tributaries of the Great Lakes will be considered for inclusion if they are located within the eight digit U.S. Geological Survey cataloging unit adjacent to a Great Lake or its connecting waters.

Reserved

To be included in the MMA Inventory, the site:

Must be established by and currently subject to Federal, state, commonwealth, territorial, local or tribal law or regulation.

Application of this criterion would exclude, for example:

Privately created or maintained marine sites.

Lasting

To be included in the MMA Inventory, the site:

Must provide year-after-year protection for at least three months of each year.

Must be established with an expectation of, or at least the potential for, permanence. If the reservation will expire on a date certain, the reservation must provide a minimum of two years of continuous protection and must have a specific mechanism to consider renewal of protection at the expiration of the reservation.

Application of this criterion would exclude, for example:

Areas subject only to temporary protections, such as areas protected only by emergency fishery regulations under the Magnuson-Stevens Act, which expire after 180 days, and areas that are protected by annual management specifications.

Protection

To be included in the MMA Inventory, the site:

Must have existing laws or regulations that are designed and applied to afford the site with increased protection for part or all of the natural and submerged cultural resources therein for the purpose of maintaining or enhancing the long-term conservation of these resources, beyond any general protections that apply outside the site.

Application of this criterion would exclude, for example:

Areas closed to avoid fishing gear conflicts.

Area-based regulations established solely to limit fisheries by quota management or to facilitate enforcement.

In addition, the Executive Order uses the term cultural resources. NOAA and DOI interpret this to mean any submerged historical or submerged cultural feature, including archaeological sites, historic structures, shipwrecks, artifacts, and subsistence uses in the marine environment.

Taken together, these definitions and criteria provide the basis for selecting sites to be included in the MMA Inventory.

MMA Inventory Data Fields

In addition to the above proposal, comments are solicited on what data and information should be provided about each site in the MMA Inventory. To make the MMA Inventory a useful resource for managers, scientists, users and the public, NOAA and DOI propose to provide specific information in a consistent format for each site. This information could be used by both government and non-government entities to aid analyses of protection of marine resources and improve regional and national coordination among existing sites. Data in the MMA Inventory eventually will be used to assess whether or not specific sites meet the definitions and criteria to be placed on the List of MPAs. In order to use existing mapping data, maps for sites with upland components will depict the entire area (i.e., the marine area constitutes the MMA by these proposed definitions/criteria; however, the maps in the MMA Inventory also will show any upland component of the national park, national estuarine research reserve, etc.).

NOAA and DOI propose to collect, use, and make available to the public the following information (listed below and found on the web site http://www.mpa.gov) for each site in the MMA Inventory. The agencies request public comments on these data fields to determine what information will be most useful for managers, scientists, user-groups, and other members of the public.

Proposed data fields:

MMA Name (name of the site protected); Type of Area (national marine sanctuary, national park, etc.); Level of Government Managing Site (Federal, state, local, tribal); Management Organizations (government agency/department responsible for site management); Purpose of Protections (explanation of what the site was established to protect or manage); Site Description (brief description of site including general features and most prominent, noteworthy, and unique features); Information Web Reference (primary informational web home page address); Location (nearest state, territory or commonwealth); Site Boundaries (if available provide: text description, latitude/longitude coordinates, digital coverage of site boundary, and digital or hard-copy map); Size of Area (number of square miles of surface of both water and land areas within site); Additional Location/Size Information (approximate shoreline length, overlap with other protected areas, connectivity with other protected areas); Marine Components (oceans, bays, estuaries, intertidal areas, Great Lakes, submerged lands, and/or other); Natural Features (biological and geological features); Cultural Features (archaeological remains, historic shipwrecks, subsistence uses); Legal Basis for Establishment (name, citation, and summary of legal authority for creating MMA); Date Established (date initial protection afforded to marine natural or submerged cultural resources, other important dates of increasing protection or expansion of site); Primary Restrictions (brief summary of primary restrictions in MMA); Legal Basis for Implementation (citation to regulations or other legal basis for implementing MMA); Expiration Date of Protections (date, if any, of expiration of regulations or other authority); Site Programs and Plans (types of management programs and plans developed for the MMA); Enforcement (government agencies/departments responsible for enforcing restrictions on site); Effectiveness (measures used to determine management effectiveness); Zone Information (if management of the site is zoned: general zone information, zone purposes, zone boundary delineation, zone resource protections, zone activity and use restrictions); and Information Sources (site staff/contact, publications, web sites, other sources).

Process

An initial and partial MMA Inventory comprised primarily of Federal sites, such as fisheries management zones, national parks, national wildlife refuges, and national marine sanctuaries, has been assembled and published on the MPA web site, http://www.mpa.gov. This initial MMA Inventory also includes state-federal national estuarine research reserves and some state sites in the Gulf of Maine and Western Pacific regions. More sites will be added to the MMA Inventory in the future.

The MMA Inventory will not contain all currently protected or managed sites in the marine environment. For example, sites developed by Regional Fishery Management Councils, in conjunction with the National Marine Fisheries Service (NMFS), NOAA, that provide less than three-months' protection or afford only annual restrictions would not appear in the MMA Inventory on the basis of the proposed working criteria.

Some MMA Inventory sites presumably will not meet all of the criteria necessary for placement on the List of MPAs during Phase II of this process. However, these sites will be maintained as part of the MMA Inventory to provide managers, analysts, and other interested parties with a comprehensive database of U.S. MMAs, including sites that may be considered for the List of MPAs, sites on the List of MPAs, and sites determined not to meet the criteria for the List of MPAs. Additional information will be added to the MMA Inventory as it becomes available.

Consultation and Public Comment

E.O. 13158 requires NOAA and DOI to develop the national MPA system in consultation with the Department of Defense, the Department of State, the United States Agency for International Development, the Department of Transportation, the Environmental Protection Agency, the National Science Foundation, and other pertinent Federal agencies. NOAA and DOI are also to consult with states and territories that contain portions of the marine environment, tribes, Regional Fishery Management Councils, and other entities, as appropriate, to promote coordination of Federal, state, territorial, and tribal actions to establish and manage MPAs. NOAA and DOI actively solicit comments from these entities and from the general public on any aspect of this notice of proposed MMA Inventory criteria, definitions, and data fields. Preliminary draft definitions and criteria, as well as inventory data fields, were first released to the public on December 21, 2000, when NOAA and DOI unveiled their MPA web site at http://www.mpa.gov. The public was invited informally to comment on any aspect of the web site including the definitions and criteria. For purposes of developing a final notice, comments made in response to the web site invitation will be considered as well as those made in response to this notice. Following review of comments received, NOAA and DOI will publish a final notice of MMA Inventory criteria, definitions, and data fields in the Federal Register and http://www.mpa.gov.

Classification

Regulatory Planning and Review

This action is not aa regulatory action subject to E.O. 12866 (58 FR 51735, October 4, 1993). This notice would not impose a compliance burden on the economy generally because the proposed definitions and MMA Inventory criteria provided here are only designed to collect data that may later be used to implement E.O. 13158.

Energy Effects

NOAA and DOI have determined that this action will have no effect on energy supply, distribution, or use as required by Executive Order 13211 (66 FR 28355).

Administrative Procedure Act

Pursuant to authority at 5 U.S.C. 553(b)(A), prior notice and an opportunity for public comment are not required to be given, as this is a document concerning agency procedure or practice. Nevertheless, NOAA and DOI want the benefit of the public's comment and are voluntarily giving prior notice and opportunity for public comment.

Dated: June 25, 2003.
Conrad C. Lautenbacher, Jr.,
Vice Admiral, U.S. Navy (Ret.), Under Secretary of Commerce for Oceans and Atmosphere.

[FR Doc. 03-18733 Filed 7-22-03; 8:45 am]

BILLING CODE 3510-08-S